ENVIRONMENTAL PROTECTION AGENCY

40 CFR Part 52

[EPA-R09-OAR-2024-0417; FRL-12279-03-R9]

Air Plan Conditional Approval; California; Bay Area Air Quality Management District; Extension of Comment Period

AGENCY: Environmental Protection Agency (EPA).

ACTION: Proposed rule; extension of comment period.

SUMMARY: The Environmental Protection Agency (EPA) is extending the comment period for a proposed rule published November 29, 2024, and corrected on December 11, 2024. The corrected comment period end date for the proposed rule was December 30, 2024. In response to commenter request, the EPA is now extending the comment period for the proposed rule to January 29, 2025.

DATES: The comment period for the proposed rule published on November 29, 2024, at 89 FR 94633, and corrected on December 11, 2024 (89 FR 99790), is extended. Comments must be received on or before January 29, 2025.

ADDRESSES: Submit your comments, identified by Docket ID No. EPA-R09-OAR-2024-0417 at https://www.regulations.gov. For comments submitted at Regulations.gov, follow the online instructions for submitting comments. Once submitted, comments cannot be edited or removed from Regulations.gov. The EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e., on the web, cloud, or other file sharing system). For additional submission methods, please contact the person identified in the FOR FURTHER INFORMATION CONTACT section. For the full EPA public comment policy, information about CBI or multimedia submissions, and general guidance on making effective comments, please visit https://www.epa.gov/dockets/commenting-epa-dockets. If you need assistance in a language other than English or if you are a person with a disability who needs a reasonable accommodation at no cost to you, please contact the person identified in the FOR FURTHER INFORMATION CONTACT section.

FOR FURTHER INFORMATION CONTACT: Allison Kawasaki, EPA Region IX, 75 Hawthorne St., San Francisco, CA 94105; phone: (415) 972-3922; email: kawasaki.allison@epa.gov.

SUPPLEMENTARY INFORMATION: On November 29, 2024 (89 FR 94633), the EPA published the proposed rule “Air Plan Conditional Approval; California; Bay Area Air Quality Management District” in the Federal Register. The comment period end date for the proposed rule, as published, was December 30, 2025, which established a 395-day comment period. A correction was published on December 11, 2024 (89 FR 99790), that corrected the comment period end date in the proposed rule to December 30, 2024, which corresponds to a 30-day public comment period from the original publication date of November 29, 2024. In response to commenter request, the EPA is now extending the comment period for the proposed rule to January 29, 2025. Comments must be received on or before January 29, 2025.

Dated: December 16, 2024.
Matthew Lakin,
Director, Air and Radiation Division, Region IX.

[FR Doc. 2024-30464 Filed 12-23-24; 8:45 am]

BILLING CODE 6560-50-P